DEPARTMENT OF THE INTERIOR

National Park Service

[NPS-WASO-NAGPRA-NPS0030587; PPWOCRADN0-PCU00RP14.R50000]

Notice of Inventory Completion: San Diego Museum of Man, San Diego, CA

AGENCY: National Park Service, Interior.

ACTION: Notice.

SUMMARY: The San Diego Museum of Man has completed an inventory of human remains and associated funerary objects, in consultation with the appropriate Indian Tribes or Native Hawaiian organizations, and has determined that there is a cultural affiliation between the human remains and associated funerary objects and present-day Indian Tribes or Native Hawaiian organizations. Lineal descendants or representatives of any Indian Tribe or Native Hawaiian organization not identified in this notice that wish to request transfer of control of these human remains and associated funerary objects should submit a written request to the San Diego Museum of Man. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the San Diego Museum of Man at the address in this notice by August 31, 2020.

ADDRESSES: Kara Vetter, Director of Cultural Resources of the San Diego Museum of Man, 1350 El Prado, Balboa Park, San Diego, CA 92101, telephone (619) 239-2001 Ext. 44, email kvetter@museumofman.org.

SUPPLEMENTARY INFORMATION: Notice is here given in accordance with the Native American Graves Protection and Repatriation Act (NAGPRA), 25 U.S.C. 3003, of the completion of an inventory of human remains and associated funerary objects under the control of the San Diego Museum of Man, San Diego, CA. The human remains and associated funerary objects were removed from Pala Reservation, Pala, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the San Diego Museum of Man professional staff in consultation with representatives of the Pala Band of Mission Indians (previously listed as the Pala Band of Luiseño Mission Indians of the Pala Reservation, California); Pauma Band of Luiseño Mission Indians of the Pauma & Yuima Reservation, California; Pechanga Band of Luiseño Mission Indians of the Pechanga Reservation, California; Rincon Band of Luiseño Mission Indians of the Rincon Reservation, California; and the Soboba Band of Luiseño Indians, California (hereafter referred to as “The Tribes”).

History and Description of the Remains

On October 26, 1976, human remains representing, at a minimum, one individual were removed from W-1174, a site on Pala Reservation in Pala, CA by Peter Lipsio. Work men reported a burial while excavating a septic tank and contacted the San Diego Museum of Man to come and collect the individual. No known individuals were identified. The 24 associated funerary objects are one metate fragment, one utilized flake, four ceramic sherds, 10 pieces of charcoal, and eight soil samples.

Due to limited archival and site information, little is known regarding age and dating of this archeological site. The site W-1174 is geographically located within the Pala Band of Mission Indians Reservation established in 1875 and is within the traditional ancestral territory of the Luiseño. Based upon oral history, geographic, and historical evidence this individual has been culturally affiliated with the Luiseño, specific to the Pala Band of Mission Indians (previously listed as the Pala Band of Luiseño Mission Indians of the Pala Reservation, California).

Determinations Made by the San Diego Museum of Man

Officials of the San Diego Museum of Man have determined that:

• Pursuant to 25 U.S.C. 3001(9), the human remains described in this notice represent the physical remains of one individual of Native American ancestry.

• Pursuant to 25 U.S.C. 3001(3)(A), the 24 objects described in this notice are reasonably believed to have been placed with or near individual human remains at the time of death or later as part of the death rite or ceremony.

• Pursuant to 25 U.S.C. 3001(2), there is a relationship of shared group identity that can be reasonably traced between the Native American human remains and associated funerary objects and The Tribes.

Additional Requestors and Disposition

Lineal descendants or representatives of any Indian Tribe or Native Hawaiian organization not identified in this notice that wish to request transfer of control of these human remains and associated funerary objects should submit a written request with information in support of the request to Kara Vetter, Director of Cultural Resources of the San Diego Museum of Man, 1350 El Prado, Balboa Park, San Diego, CA 92101, telephone (619) 239-2001 Ext. 44, email kvetter@museumofman.org, by August 31, 2020. After that date, if no additional requestors have come forward, transfer of control of the human remains and associated funerary objects to The Tribes may proceed.

The San Diego Museum of Man is responsible for notifying The Tribes that this notice has been published.

Dated: July 6, 2020.
Melanie O'Brien,
Manager, National NAGPRA Program.

[FR Doc. 2020-16500 Filed 7-29-20; 8:45 am]

BILLING CODE 4312-52-P